FEDERAL COMMUNICATIONS COMMISSION

47 CFR Parts 2 and 15

[ET Docket No. 99-261; FCC 00-442]

50.2-71 GHz Realignment

AGENCY: Federal Communications Commission.

ACTION: Final rule.

SUMMARY: In this document we realign allocations in the 50.2-50.4 GHz and 51.4-71 GHz frequency bands. This action continues our efforts to facilitate the commercialization of the “millimeter wave” spectrum. Until recently, commercial use of this spectrum was not economically viable. However, recent technological advances make this spectrum increasingly usable for commercial services and products. Therefore, we have reexamined potential uses of this spectrum and how best it can be allocated to further the public interest. The realignment of allocations that we adopt today will meet current demands for spectrum in this frequency range and is consistent with the international allocation changes the United States sought and obtained at the 1997 World Radiocommunication Conference.

DATES: Effective February 22, 2001. However, the Table of Frequency Allocation, page 81, United States Table, the non-Federal Government inter-satellite service (“ISS”) allocation in the 65-71 GHz band is applicable January 23, 2001.

FOR FURTHER INFORMATION CONTACT: Tom Mooring, Office of Engineering and Technology, (202) 418-2450.

SUPPLEMENTARY INFORMATION: This is a summary of the Commission's Report and Order in ET Docket No. 99-261, FCC 00-442, adopted December 19, 2000, and released December 22, 2000. The full text of this Commission decision is available on the Commission's Internet site at http://www.fcc.gov. It is available for inspection and copying during normal business hours in the FCC Reference Information Center, Room CY-A257, 445 12th Street, SW., Washington, DC, and also may be purchased from the Commission's duplication contractor, International Transcription Service, (202) 857-3800, 1231 20th Street, NW. Washington, DC 20036.

Summary of the Report and Order

A. Allocation Changes

1. We are providing a net increase of 2.27 gigahertz of spectrum allocated on a primary basis to the fixed and mobile services. This spectrum will be shared by Federal agencies and non-Federal Government licensees. Specifically, we allocate the 51.4-52.6 GHz and 58.2-59 GHz bands to the Federal and non-Federal Government fixed and mobile services, allocate the 64-66 GHz band to the Federal and non-Federal Government fixed and mobile except aeronautical mobile services, and delete the Federal and non-Federal Government fixed and mobile services from the 50.2-50.4 GHz and 54.25-55.78 GHz bands. We anticipate that much of this spectrum will be used by mobile service licensees to connect their base stations together and to connect their systems to other systems.

2. We are also providing separate ISS allocations for Federal agencies and for non-Federal Government (“commercial”) licensees. Specifically, we allocate the 65-71 GHz band to the non-Federal Government ISS and delete the non-Federal Government ISS allocation from the 56.9-57 GHz and 59-64 GHz bands. We also allocate the 64-65 GHz band to the Federal Government ISS. The net result of the ISS allocations and deletions is an increase of 0.9 GHz for commercial ISS and 1 GHz for Federal ISS. The remaining ISS allocations in this frequency range (54.25-56.9 GHz and 57-58.2 GHz) will be available for both Federal and commercial use. These ISS allocations will provide satellite licensees with the spectrum they need to interconnect satellites within their respective networks. The use of inter-satellite links are expected to make satellite networks more efficient, resulting in the provision of more enhanced services like video telephony, medical and technical tele-imaging, high speed data networks and “bandwidth on demand” to consumers. In addition, the use of inter-satellite links will enable satellite licensees to provide more efficient interconnections between their service areas.

3. To provide spectrum for the above services, we are reducing the net amount of spectrum allocated to the Earth exploration-satellite (passive) and space research (passive) services by 1.9 gigahertz and are reducing the amount of spectrum allocated to the radio astronomy service by 4.65 gigahertz. According to the National Telecommunications and Information Administration (“NTIA”), the deleted space research (passive) and radio astronomy allocations are unused and unneeded and the deleted Earth exploration-satellite (passive) allocations are unneeded. In sum, the realignment provides a significant increase in spectrum for fixed, mobile, and inter-satellite services and unlicensed devices, while improving the operation of passive sensors in the Earth exploration-satellite service (“EESS”).¹

¹ Passive sensor operations in the 54.25-59.3 GHz band are protected by generally limiting the use of the ISS allocations in this band to transmissions between satellites in geostationary orbit and by limiting the energy that can reach the passive sensor satellites, which operate much closer to the Earth's surface.

B. Additional Spectrum for Unlicensed Devices

4. We are also making the 57-59 GHz band available for use by Part 15 unlicensed devices. This 2 gigahertz of spectrum and the existing Part 15 unlicensed band at 59-64 GHz will operate under the same technical rules. We anticipate that this additional unlicensed spectrum (used either separately or in conjunction with the 59-64 GHz band) will be useful for very high speed and/or high bandwidth communications over short distances and for networking backbone purposes in congested areas.

5. Because we are expanding the current spectrum etiquette to the 57-59 GHz band, we believe it is appropriate to modify Section 15.255 of our rules. Specifically, Section 15.255(d) reserves the 59-59.05 GHz segment for specific purposes—spurious emissions and a publicly-accessible coordination channel. To enable users unfettered access to contiguous spectrum between 57 GHz and 64 GHz, we move the coordination channel from 59-59.05 GHz to 57-57.05 GHz. This will preserve the goals of setting aside 50 megahertz of spectrum to allow techniques for mitigating or eliminating interference that may occur between different unlicensed transmitters operating in the same frequency band and will provide flexibility in channel widths for unlicensed devices. This change should not affect any existing operations because no unlicensed equipment has been authorized to operate in the 59-64 GHz band. Accordingly, we are revising Section 15.255(g) of our Rules to reflect this decision.

6. In addition, we are modifying the transmitter identification requirement to protect the systems for which it was designed, i.e., transmissions that emanate from inside a building. This minor alteration should protect indoor systems from interference, while not unnecessarily burdening outdoor systems that pose little interference threat to indoor systems or other outdoor systems. Indoor equipment will be required to have the ID because indoor equipment is under the control of the system operator. The system operator knows its equipment and thus can decode the ID information and find out which transmitter is interfering with the rest of its system. In contrast, the victim of interference from outdoor equipment would not be able to determine the identity of the manufacturer and thus, the victim could not decode the ID. This spectrum is likely to be used for point-to-point operations and thus this is not likely to be a problem. Expanding the spectrum etiquette for the 59-64 GHz band to the 57-59 GHz and modifying it as discussed above makes the 57-59 GHz band available immediately without burdening it with potentially unnecessary regulatory requirements.

7. The Table, below, summarizes the existing allocations versus the allocations as realigned in this Order.

Existing vs Realigned Allocations
[Federal and non-Federal Government allocations are identical, unless otherwise specified]
Band (GHz) | Existing allocations | Realigned allocations | Summary of major changes
50.2-50.4 | EESS (passive) SPACE RESEARCH (passive) FIXED MOBILE (Passive sensors do not receive protection from fixed & mobile.) | EESS (passive) SPACE RESEARCH (passive) (No stations will be authorized to transmit in this band.) | Reduction of 0.2 GHz for fixed and mobile services.
51.4-54.25 | EESS (passive) SPACE RESEARCH (passive) RADIO ASTRONOMY | 51.4-52.6 FIXED MOBILE | Additional 1.2 GHz for fixed and mobile services.
| (No stations will be authorized to transmit in this band.) | 52.6-54.25 EESS (passive) SPACE RESEARCH (passive) (No stations will be authorized to transmit in this band.) | Reductions of 1.2 GHz for EESS and space research and 2.85 GHz for radio astronomy.
54.25-58.2 | ISS EESS (passive) SPACE RESEARCH (passive) FIXED MOBILE (aeronautical mobile prohibited from causing interference to ISS) (Passive sensors do not receive protection from fixed & mobile.) | 54.25-55.78 ISS EESS (passive) SPACE RESEARCH (passive) | ISS use limited to transmissions between GSO satellites. Reduction of 1.53 GHz for fixed and mobile.
|  | 55.78-58.2 ISS (55.78-56.9 GHz and 57-58.2 GHz allocated for Federal and non-Federal Government use: 56.9-57 GHz allocated only for Federal Government use) EESS (passive) SPACE RESEARCH (passive) FIXED MOBILE (aeronautical mobile prohibited from causing interference to ISS) Radio astronomy observations may be made on an unprotected basis at 56.24-56.29 GHz (57-58.2 GHz is available for Part 15 unlicensed devices.) | ISS use limited to transmission between GSO satellites, except between GSO satellites, except that additional flexibility is authorized per footnote G128. Additional 1.2 GHz for Part 15 devices. Reduction of 0.1 GHz for commercial ISS.
58.2-59 | EESS (passive) SPACE RESEARCH (passsive) RADIO ASTRONOMY (No stations will be authorized to transmit in this band.) | EESS (passive) SPACE RESEARCH (passive) FIXED MOBILE (airborne stations prohibited in 58.422-58.472 GHz) Radio astronomy observations may be made on an unprotected basis at 58.422-58.472 GHz (Available for Part 15 unlicensed devices.) | Additional 0.8 GHz for fixed and mobile services and for Part 15 devices. Reduction of 1 GHz for radio astronomy.
59-64 | ISS FIXED MOBILE (aeronautical mobile prohibited from causing interference to ISS) RADIOLOCATION (airborne radars prohibited from causing interference to ISS) 61-61.5 GHz is designated for ISM applications. (Available for Part 15 unlicensed devices.) | Federal Government ISS FIXED MOBILE (aeronautical mobile prohibited from causing interference to ISS) RADIOLOCATION (airborne radars prohibited from causing interference to ISS) EESS (passive; limited to the 59-59.3 GHz band) SPACE RESEARCH (passive; limited to the 59-59.3 GHz band) 61-61.5 GHz is designated for ISM applications. Radio astronomy observations may be made on an unprotected basis at 59.139-59.189 GHz, 59.566-59.616 GHz, 60.281-60.331 GHz, 60.41-60.46 GHz, and 62.461-62.511 GHz. (Available for Part 15 unlicensed devices.) | Additional 0.3 GHz for EESS and space research. Federal Government ISS use limited to transmissions between GSO satellites in the 59-59.3 GHz band. Reduction of 5 GHz for commercial ISS.
64-65 | EESS (passive) SPACE RESEARCH (passive) RADIO ASTRONOMY (No stations will be authorized to transmit in this band.) | Federal Government ISS FIXED MOBILE except aeronautical mobile | Additional 1 GHz for fixed and mobile except aeronautical mobile services and for Federal Government ISS. Reduction of 1 GHz for EESS, space research, and radio astronomy.
65-66 | EESS SPACE RESEARCH Fixed Mobile | non-Federal Government ISS EESS SPACE RESEARCH FIXED MOBILE except aeronautical mobile | Additional 1GHz for commercial ISS (available to both GSO and NGSO systems). Elevation of 1 GHz for fixed and mobile except aeronautical mobile services from secondary to primary status.
66-71 | MSS RADIONAVIGATION-SAT. RADIONAVIGATION MOBILE (land mobile shall not cause interference to in-band space services) | non-Federal Government ISS MSS RADIONAVIGATION-SAT. RADIONAVIGATION MOBILE (land mobile shall not cause interference to in-band space services and aeronautical mobile shall not cause interference to ISS) | Additional 5 GHz for commercial ISS (available to both GSO and NGSO systems).

Final Regulatory Flexibility Certification

8. This Report and Order finalizes the spectrum realignment proposed in the Notice of Proposed Rule Making (“Notice”) issued by the Commission in July of 1999.² We received no comments in response to the Initial Regulatory Flexibility Analysis in the Notice. The Regulatory Flexibility Act (“RFA”) ³ requires that a regulatory flexibility analysis be prepared for rulemaking proceedings, unless the agency certifies that “the rule will not have a significant economic impact on a substantial number of small entities.” ⁴ The RFA generally defines “small entity” as having the same meaning as the terms “small business,” “small organization,” and “small governmental jurisdiction.” ⁵ In addition, the term “small business” has the same meaning as the term “small business concern” under the Small Business Act.⁶ A small business concern is one which: (1) is independently owned and operated; (2) is not dominant in its field of operation; and (3) satisfies any additional criteria established by the Small Business Administration (“SBA”).⁷

² Notice, 64 FR 43643 (August 11, 1999).

³ The RFA, see 5 U.S.C. 601 et seq., has been amended by the Contract With America Advancement Act of 1996, Public Law 104-121, 110 Stat. 847 (1996) (“CWAAA”). Title II of the CWAAA is the Small Business Regulatory Enforcement Fairness Act of 1996 (“SBREFA”).

⁴ 5 U.S.C. 605(b).

⁵ 5 U.S.C. 601(6).

⁶ 5 U.S.C. 601(3) (incorporating by reference the definition of “small business concern” in Small Business Act, 15 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.”

⁷ Small Business Act, 15 U.S.C. 632.

9. In this Report and Order, we realign allocations in the frequency range 50.2-71 GHz. One of the results of this realignment is a net gain of 2.27 gigahertz of spectrum allocated on a primary basis to the fixed and mobile services. We also designate 2 gigahertz of spectrum at 57-59 GHz for Part 15 unlicensed devices. We believe that this net increase in fixed and mobile spectrum and the designation of a new unlicensed band will provide new opportunities for small entities. In addition, the realignment affects allocations for the Earth exploration-satellite (passive), space research (passive), radio astronomy, and inter-satellite services. There are no small entities affected by this action because only Federal agencies currently make use of these services. In addition, future inter-satellite service licensees are not expected to be small entities because of the cost inherent in satellite networks. Because the realignment adopted in this Report and Order provides more spectrum for future fixed and mobile service licensees and for manufacturers of future unlicensed devices and because the realignment does not impact any current non-Federal Government users, we hereby certify that the realignment will not have a significant economic impact on a substantial number of small entities.

10. The Commission will send a copy of this Report and Order, including a copy of this final certification, in a report to Congress pursuant to the Small Business Regulatory Enforcement Fairness Act of 1996.⁸ In addition, this Report and Order and this certification will be sent to the Chief Counsel for Advocacy of the Small Business Administration.⁹

⁸ See 5 U.S.C. 801(a)(1)(A).

⁹ See 5 U.S.C. 605(b).

11. Accordingly, It Is Ordered that pursuant to Sections 4(i), 7(a), 303(c), 303(f), 303(g), and 303(r) of the Communications Act of 1934, as amended, 47 U.S.C. Sections 154(i), 157(a), 303(c), 303(f), 303(g), and 303(r), the Report and Order is hereby Adopted.

12. It Is Further Ordered that the amendments to Parts 2 and 15 of the Commission's rules section are effective February 22, 2001. However, the Table of Frequency Allocations, page 81, United States Table, the non-Federal Government ISS allocation in the 65-71 GHz band is applicable January 23, 2001.

List of Subjects

47 CFR Part 2

Radio, Telecommunications.

47 CFR Part 15

Communication equipment, Radio.

Federal Communications Commission.
William F. Caton,
Deputy Secretary.

Rule Changes

For the reasons discussed in the preamble, the Federal Communications Commission amends 47 CFR parts 2 and 15 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.106, the Table of Frequency Allocations, is amended as follows:

a. Revise pages 79, 80 and 81.

b. Revise, under International Footnotes, New “S” Numbering Scheme footnote S5.547 and add footnote S5.557A in numeric order.

c. Revise United States footnotes US246 and US263 and add footnotes US353 and US354 in numeric order.

d. Add Federal Government footnote G128 in numeric order.

The additions and revisions read as follows:

§ 2.106 Table of Frequency Allocations.

* * * * *

BILLING CODE 6712-01-P

* * * * *

International Footnotes

* * * * *

I. New “S” Numbering Scheme

* * * * *

S5.547 The bands 31.8-33.4 GHz, 37-40 GHz, 40.5-43.5 GHz, 51.4-52.6 GHz, 55.78-59 GHz and 64-66 GHz are available for high-density applications in the fixed service (see Resolutions 75 (WRC-2000) and 79 (WRC-2000)). Administrations should take this into account when considering regulatory provisions in relation to these bands. Because of the potential deployment of high-density applications in the fixed-satellite service in the bands 39.5-40 GHz and 40.5-42 GHz, administrations should further take into account potential constraints to high-density applications in the fixed service, as appropriate (see Resolution 84 (WRC-2000)).

* * * * *

S5.557A In the band 55.78-56.26 GHz, in order to protect stations in the Earth exploration-satellite service (passive), the maximum power density delivered by a transmitter to the antenna of a fixed service station is limited to -26 dB(W/MHz).

* * * * *

United States (US) Footnotes

* * * * *

US246 No station shall be authorized to transmit in the following bands:

608-614 MHz, except for medical telemetry equipment ¹,

¹ Medical telemetry equipment shall not cause harmful interference to radio astronomy operations in the band 608-614 MHz and shall be coordinated under the requirements found in 47 CFR 95.1119.

1400-1427 MHz,

1660.5-1668.4 MHz,

2690-2700 MHz,

4990-5000 MHz,

10.68-10.7 GHz,

15.35-15.4 GHz,

23.6-24 GHz,

31.3-31.8 GHz,

50.2-50.4 GHz,

52.6-54.25 GHz,

86-92 GHz,

100-102 GHz,

105-116 GHz,

164-168 GHz,

182-185 GHz,

217-231 GHz.

* * * * *

US263 In the bands 21.2-21.4 GHz, 22.21-22.5 GHz, 36-37 GHz, 56.26-58.2 GHz, 116-126 GHz, 150-151 GHz, 174.5-176.5 GHz, 200-202 GHz, and 235-238 GHz, the space research and the Earth exploration-satellite services shall not receive protection from the fixed and mobile services operating in accordance with the Table of Frequency Allocations.

* * * * *

US353 In the sub-bands 56.24-56.29 GHz, 58.422-58.472 GHz, 59.139-59.189 GHz, 59.566-59.616 GHz, 60.281-60.331 GHz, 60.41-60.46 GHz, and 62.461-62.511 GHz, space-based radio astronomy observations may be made on an unprotected basis.

US354 In the sub-band 58.422-58.472 GHz, airborne stations and space stations in the space-to-Earth direction shall not be authorized.

* * * * *

Federal Government (G) Footnotes

* * * * *

G128 Use of the band 56.9-57 GHz by inter-satellite systems is limited to transmissions between satellites in geostationary orbit, to transmissions between satellites in geostationary satellite orbit and those in high-Earth orbit, to transmissions from satellites in geostationary satellite orbit to those in low-Earth orbit, and to transmissions from non-geostationary satellites in high-Earth orbit to those in low-Earth orbit. For links between satellites in the geostationary satellite orbit, the single entry power flux-density at all altitudes from 0 km to 1000 km above the Earth's surface, for all conditions and for all methods of modulation, shall not exceed -147 dB (W/m²/100 MHz) for all angles of arrival.

PART 15—RADIO FREQUENCY DEVICES

3. The authority citation for part 15 continues to read as follows:

Authority: 47 U.S.C. 154, 302, 303, 304, 307 and 544A.

4. Section 15.255 is amended by revising the section heading, paragraph (b) introductory text, the last sentence of paragraph (b)(2), paragraphs (b)(4), (c)(1), (d) including the note, and (e)(2), and the introductory text to paragraph (i) to read as follows:

§ 15.255 Operation within the band 57-64 GHz.

* * * * *

(b) Within the 57-64 GHz band, emission levels shall not exceed the following:

* * * * *

(2) * * * In addition, the average power density of any emission outside of the 61-61.5 GHz band, measured during the transmit interval, but still within the 57-64 GHz band, shall not exceed 9 nW/cm², as measured 3 meters from the radiating structure, and the peak power density of any emission shall not exceed 18 nW/cm², as measured three meters from the radiating structure.

* * * * *

(4) Peak power density shall be measured with an RF detector that has a detection bandwidth that encompasses the 57-64 GHz band and has a video bandwidth of at least 10 MHz, or using an equivalent measurement method.

* * * * *

(c) * * *

(1) The power density of any emissions outside the 57-64 GHz band shall consist solely of spurious emissions.

* * * * *

(d) Only spurious emissions and transmissions related to a publicly-accessible coordination channel, whose purpose is to coordinate operation between diverse transmitters with a view towards reducing the probability of interference throughout the 57-64 GHz band, are permitted in the 57-57.05 GHz band.

Note to Paragraph (d): The 57-57.05 GHz is reserved exclusively for a publicly-accessible coordination channel. The development of standards for this channel shall be performed pursuant to authorizations issued under part 5 of this chapter.

(e) * * *

(2) Peak transmitter output power shall be measured with an RF detector that has a detection bandwidth that encompasses the 57-64 GHz band and that has a video bandwidth of at least 10 MHz, or using an equivalent measurement method.

* * * * *

(i) For all transmissions that emanate from inside of a building, within any one second interval of signal transmission, each transmitter with a peak output power equal to or greater than 0.1 mW or a peak power density equal to or greater than 3 nW/cm², as measured 3 meters from the radiating structure, must transmit a transmitter identification at least once. Each application for equipment authorization for equipment that will be used inside of a building must declare that the equipment contains the required transmitter identification feature and must specify a method whereby interested parties can obtain sufficient information, at no cost, to enable them to fully detect and decode this transmitter identification information. Upon the completion of decoding, the transmitter identification data block must provide the following fields:

* * * * *

[FR Doc. 01-1038 Filed 1-22-01; 8:45 am]

BILLING CODE 6712-01-P